DEPARTMENT OF ENERGY

Federal Energy Regulatory Commission

Combined Notice of Filings #2

Take notice that the Commission received the following electric rate filings:

Docket Numbers: ER10-2265-007; ER12-21-017; ER11-2211-006; ER11-2209-006; ER11-2210-006; ER11-2207-006; ER11-2206-006; ER13-1150-004; ER13-1151-004; ER10-2783-012; ER10-2784-012; ER11-2855-017; ER10-2791-013; ER10-2333-006; ER10-2792-013; ER14-1818-007; ER12-1238-005; ER10-2260-004; ER10-2261-004; ER10-2337-007; ER14-1668-004; ER14-1669-004; ER14-1674-004; ER14-1670-004; ER14-1671-004; ER14-1675-004; ER14-1673-004; ER14-1676-004; ER14-1677-004; ER14-1678-004; ER14-1679-004; ER14-1672-004; ER10-2795-012; ER10-2798-012; ER10-1575-011; ER10-2339-009; ER10-2338-009; ER10-2340-009; ER12-1239-005; ER10-2336-006; ER10-2335-006; ER10-2799-012; ER10-2801-012; ER10-2385-006; ER11-3727-012; ER10-2262-003; ER12-2413-011; ER11-2062-016; ER10-2346-007; ER10-2812-011; ER10-1291-017; ER10-2843-010; ER11-2508-015; ER11-2863-009; ER11-4307-016; ER10-2347-006; ER10-2348-005; ER12-1711-012; ER10-2350-006; ER10-2846-012; ER12-261-015; ER10-3223-006; ER10-2351-006; ER10-2875-012; ER10-2368-005; ER10-2352-006; ER10-2264-004; ER10-1581-014.

Applicants: NRG Power Marketing LLC, Agua Caliente Solar, LLC, Alta Wind I, LLC, Alta Wind II, LLC, Alta Wind III, LLC, Alta Wind IV, LLC, Alta Wind V, LLC, Alta Wind X, LLC, Alta Wind XI, LLC, Arthur Kill Power LLC, Astoria Gas Turbine Power LLC, Avenal Park LLC, Bayou Cove Peaking Power, LLC, Bendwind, LLC, Big Cajun I Peaking Power LLC, Boston Energy Trading and Marketing LLC, Broken Bow Wind, LLC, Cabrillo Power I LLC, Cabrillo Power II LLC, CL Power Sales Eight, L.L.C., Community Wind North 1 LLC, Community Wind North 2 LLC, Community Wind North 3 LLC, Community Wind North 5 LLC, Community Wind North 6 LLC, Community Wind North 7 LLC, Community Wind North 8 LLC, Community Wind North 9 LLC, Community Wind North 10 LLC, Community Wind North 11 LLC, Community Wind North 13 LLC, Community Wind North 15 LLC, Conemaugh Power LLC, Connecticut Jet Power LLC, Cottonwood Energy Company LP, CP Power Sales Seventeen, L.L.C., CP Power Sales Nineteen, L.L.C., CP Power Sales Twenty, L.L.C., Crofton Bluffs Wind, LLC, DeGreeff DP, LLC, DeGreeffpa, LLC, Devon Power LLC, Dunkirk Power LLC, Elkhorn Ridge Wind, LLC, El Segundo Energy Center LLC, El Segundo Power, LLC, Energy Alternatives Wholesale, LLC, Energy Plus Holdings LLC, Forward WindPower LLC, GenConn Devon LLC, GenConn Energy LLC, GenConn Middletown LLC, GenOn Energy Management, LLC, GenOn Mid-Atlantic, LLC, Green Mountain Energy Company, Groen Wind, LLC, High Lonesome Mesa, LLC, High Plains Ranch II, LLC, Hillcrest Wind, LLC, Huntley Power LLC, Independence Energy Group LLC, Indian River Power LLC, Jeffers Wind 20, LLC, Keystone Power LLC, Laredo Ridge Wind, LLC, Larswind, LLC, Long Beach Generation LLC, Long Beach Peakers LLC.

Description: Notification of Change in Status of NRG Power Marketing LLC, et al.

Filed Date: 7/29/15.

Accession Number: 20150729-5190.

Comments Due: 5 p.m. ET 8/19/15.

Docket Numbers: ER15-1020-001.

Applicants: Rising Tree Wind Farm III LLC.

Description: Notice of Non-Material Change in Status of Rising Tree Wind Farm III LLC.

Filed Date: 7/30/15.

Accession Number: 20150730-5106.

Comments Due: 5 p.m. ET 8/20/15.

Docket Numbers: ER15-1650-001.

Applicants: ISO New England Inc.

Description: Compliance filing: Market Monitor Capacity Related Revisions to be effective 6/1/2015.

Filed Date: 7/30/15.

Accession Number: 20150730-5096.

Comments Due: 5 p.m. ET 8/20/15.

Docket Numbers: ER15-2308-000.

Applicants: PJM Interconnection, L.L.C.

Description: Section 205(d) Rate Filing: Second Revised Service Agreement No. 937; Queue Z2-108 (ISA) to be effective 6/30/2015.

Filed Date: 7/30/15.

Accession Number: 20150730-5095.

Comments Due: 5 p.m. ET 8/20/15.

Docket Numbers: ER15-2309-000.

Applicants: PacifiCorp.

Description: Section 205(d) Rate Filing: CPUD Construct Agmt ? Merwin Sub to be effective 9/29/2015.

Filed Date: 7/30/15.

Accession Number: 20150730-5103.

Comments Due: 5 p.m. ET 8/20/15.

Docket Numbers: ER15-2310-000.

Applicants: Nevada Power Company.

Description: Section 205(d) Rate Filing: Rate Schedule No. 139 NPC Amendments to be effective 9/29/2015.

Filed Date: 7/30/15.

Accession Number: 20150730-5110.

Comments Due: 5 p.m. ET 8/20/15.

Docket Numbers: ER15-2311-000.

Applicants: Northern States Power Company, a Minnesota corporation.

Description: Section 205(d) Rate Filing: 2015-7-30_JPZ Rev Alloc Agrmt Amnd _304-NSP-0.3.0 to be effective6/1/2015.

Filed Date: 7/30/15.

Accession Number: 20150730-5124.

Comments Due: 5 p.m. ET 8/20/15.

Docket Numbers: ER15-2312-000.

Applicants: Arizona Public Service Company.

Description: Section 205(d) Rate Filing: Service Agreement Nos. 218 and 335 Amended and Restated—Mead to be effective 7/1/2015.

Filed Date: 7/30/15.

Accession Number: 20150730-5148.

Comments Due: 5 p.m. ET 8/20/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 30, 2015.
Nathaniel J. Davis, Sr.,
Deputy Secretary.

[FR Doc. 2015-19300 Filed 8-5-15; 8:45 am]

BILLING CODE 6717-01-P